DEPARTMENT OF ENERGY

Agency Information Collection Extension

AGENCY: Department of Energy.

ACTION: Submission for Office of Management and Budget review; comment request.

SUMMARY: The Department of Energy (DOE) has submitted an information collection package to the Office of Management and Budget (0MB) for extension under the Paperwork Reduction Act of 1995 (P.L. 104-13).

The package covers the collection of information concerning annual applications from the owners of qualified renewable energy generation facilities for the consideration of renewable energy production incentive payments. This information is used by the Department to determine if the applicant's facility qualifies for these payments and to determine the amount of net electricity produced for State that qualifies for these payments. This information is critical to ensure the Government has sufficient information to ensure the proper use of public funds for these incentive payments.

DATES: Comments must be filed on or before October 1, 2001. If you anticipate that you will be submitting comments, but find it difficult to do so within the period of time allowed by this notice, you should advise the OMB Desk Officer of your intention to do so as soon as possible. The Desk Officer may be telephoned at (202) 395-7318. (Also, please notify the DOE contact listed in this notice:)

ADDRESSES: Address comments to DOE Desk Officer, Office of Management and Budget, Office of Information and Regulatory Affairs (OIRA), Room 10102, New Executive Office Building, 725 17th Street, NW, Washington, DC 20503. (Comments should also be addressed to the Records Management Division, Office of the Chief Information Officer, at the address listed below.)

FOR FURTHER INFORMATION CONTACT: Requests for additional information should be directed to Susan L. Frey, Director, Records Management Division, Office of Records and Business Management (SO-312), U.S. Department of Energy, Germantown, MD 20874-1290, and/or Lawrence Mansueti, Office of Power Technologies (EE-l 0), Department of Energy, Washington, DC 20585, (202) 586-2588.

SUPPLEMENTARY INFORMATION: The package contains the following information:

(1) Current OMB control number: 1910-0068; (2) Package Title: Renewable Energy Production Incentives; (3) Summary: A three-year extension is requested, because this information is critical to ensure that the Government has sufficient information to ensure the proper use of public funds for these incentive payments; (4) Purpose: To provide required information to receive consideration for payment for qualified renewable energy electricity produced in the prior fiscal year; (5) Type of Respondents: State, municipal, county, and non-profit electric cooperative owners of qualified renewable energy generation facilities that produce electricity for sale; (6) estimated number of responses; (7) estimated total burden hours, including record keeping hours, required to provide the information; (8) purpose; and (9) number of collections.

Package Title: Renewable Energy Production Incentives.

Current 0MB No.: 1910-0068.

Type of Respondents: State, municipal, county, and non-profit electric cooperative owners of qualified renewable energy generation facilities that produce electricity for sale.

Estimated Total Burden Hours: 450.

Statutory Authority: Paperwork Reduction Act of 1995, P.L. No 104-13, 44 U.S.C. 3507 (g) and (h).

Issued in Washington, DC, on August 24, 2001.
Susan L. Frey,
Director, Records Management Division, Office of the Chief Information Officer.

[FR Doc. 01-22009 Filed 8-30-01; 8:45 am]

BILLING CODE 6450-01-P